DEPARTMENT OF TRANSPORTATION

Federal Highway Administration

Notice of Final Federal Agency Actions on Transportation Project in Washington State

AGENCY: Federal Highway Administration (FHWA), Department of Transportation (DOT).

ACTION: Notice of Limitation on Claims for Judicial Review of Actions by FHWA and Other Federal Agencies.

SUMMARY: This notice announces actions taken by the FHWA and other Federal agencies that are final within the meaning of 23 U.S.C. 139(l)(1). The actions relate to the I-5 interchange with NW., 319th Street/La Center Road (La Center Interchange Improvements) Project in the State of Washington. The action by FHWA is the Record of Decision (ROD) that selects improvements to the I-5 La Center Interchange as traffic mitigation measures for construction of the Cowlitz Reservation Development. The Cowlitz Reservation Development was the subject of the Bureau of Indian Affairs (BIA) ROD of April 2013. Actions by other Federal agencies include issuing amendments to previously issued permits.

DATES: By this notice, FHWA is advising the public of final Agency actions subject to 23 U.S.C. 139(l)(1). A claim seeking judicial review of the Federal agency actions on the listed highway project will be barred unless the claim is filed on or before September 30, 2016. If the Federal law that authorizes judicial review of a claim provides a time period of less than 150 days for filing such claim, then that shorter time period still applies.

FOR FURTHER INFORMATION CONTACT: For FHWA, contact Liana Liu, Area Engineer, North Central and South Central Region, Federal Highway Administration, 711 South Capital Way, Suite 501, Olympia, WA 98501-0943, telephone at 360-753-9553, or via email at Liana.Liu@dot.gov. Regular office hours are from 8:00 a.m. to 4:30 p.m., p.t., Monday through Friday, except Federal holidays. For Washington State Department of Transportation (WSDOT), contact Barb Aberle, Environmental Manager, Southwest Region, Washington State Department of Transportation, 11018 NE 51st Circle, Vancouver, WA 98682, telephone at 360-905-2186, or via email at AberleB@wsdot.wa.gov. Regular office hours are from 8:00 a.m. to 4:30 p.m., p.t., Monday through Friday.

SUPPLEMENTARY INFORMATION: Notice is hereby given that the FHWA and other Federal agencies have taken final agency actions related to the I-5 Interchange with NW., 319th Street/La Center Road (La Center Interchange Improvements) Project in the State of Washington. The BIA prepared a Draft Environmental Impact Statement (EIS), released on April 12, 2008, and Final EIS (FEIS) on May 30, 2008, for proposed improvements to the I-5 NW., 319th Street/La Center Road Interchange. The BIA issued an ROD for the project on December 17, 2010, which approved the Cowlitz Reservation Development and adopted mitigation measures recommended within the 2008 FEIS, including the La Center Interchange Improvements. After a challenge in United States District Court, the BIA conducted an evaluation of adequacy of the FEIS and issued a new ROD in April 2013.

Implementation of the La Center Interchange Improvements is subject to discretionary approvals from FHWA and WSDOT. An FHWA National Environmental Policy Act (NEPA) Reevaluation was prepared in May 2015, to identify and document changed environmental conditions and effects associated with the La Center Interchange Improvements. The FHWA issued an ROD which approved the La Center Interchange Improvements and adopted mitigation measures recommended in the 2008 FEIS and May 2015 Reevaluation on July 29, 2015.Since issuance of the FHWA ROD, the design of stormwater facilities has been modified, consistent with applicable management guidelines, and the previously proposed realignment of NW., Paradise Park Road has been refined. An Environmental Reevaluation Report was prepared in February 2106, to identify and document potential effects associated with changes to the La Center Interchange Improvements.

This notice applies to all Federal agency decisions on the project as of the issuance date of this notice and all laws under which such actions were taken, including but not limited to:

1. General: NEPA (42 U.S.C. 4321-4351); Federal-Aid Highway Act (23 U.S.C. 109).

2. Wildlife: Endangered Species Act (16 U.S.C. 1531-1544); Fish and Wildlife Coordination Act (16 U.S.C. 661-667(d)); Migratory Bird Treaty Act (16 U.S.C. 703-712).

3. Air: Clean Air Act (42 U.S.C. 7401-7671(q)).

4. Land: Section 4(f) of the Department of Transportation Act of 1966 (49 U.S.C. 303); Landscaping and Scenic Enhancement (Wildflowers) (23 U.S.C. 319).

5. Historic and Cultural Resources: Section 106 of the National Historic Preservation Act of 1966, as amended (16 U.S.C. 470(f) et seq.); Archeological Resources Protection Act of 1977 (16 U.S.C. 470aa-aaa11); Native American Grave Protection and Repatriation Act (25 U.S.C. 3001-3013.

6. Social and Economic: Civil Rights Act of 1964 (42 U.S.C. 2000(d)-2000(d)(1)); American Indian Religious Freedom Act (42 U.S.C. 1996); Farmland Protection Policy Act (7 U.S.C. 4201-4209).

7. Wetlands and Water Resources: Clean Water Act (33 U.S.C. 1251-1377); Land and Water Conservation Fund (16 U.S.C. 4601-4604); Safe Drinking Water Act (42 U.S.C. 300(f)-300(j)(6)); Rivers and Harbors Act of 1899 (33 U.S.C. 401-406); Wild and Scenic Rivers Act (16 U.S.C. 1271-1287); Emergency Wetlands Resources Act (16 U.S.C. 3921, 3931); Flood Disaster Protection Act (42 U.S.C. 4001-4128).

8. Executive Orders (EO): EO 11990, Protection of Wetlands; EO 11988, Floodplain Management; EO 12898, Federal Actions to Address Environmental Justice in Minority Populations and Low Income Populations; EO 11593, Protection and Enhancement of Cultural Resources; EO 13007, Indian Sacred Sites; EO 13287, Preserve America; EO 13175, Consultation and Coordination with Indian Tribal Governments; EO 11514, Protection and Enhancement of Environmental Quality; EO 13112, Invasive Species.

(Catalog of Federal Domestic Assistance Program No. 20.205, Highway Research, Planning and Construction. The regulations implementing EO 12372 regarding intergovernmental consultation on Federal programs and activities apply to this program.)

Authority: 23 U.S.C. 139(l)(1), as amended by Moving Ahead for Progress in the 21st Century Act, (PL 112-141, 126 Stat. 405).

Issued on: April 25, 2016.
Daniel M. Mathis,
FHWA Division Administrator, Olympia, WA.

[FR Doc. 2016-10284 Filed 5-2-16; 8:45 am]

BILLING CODE 4910-RY-P